DEPARTMENT OF THE INTERIOR

Bureau of Land Management

[LLMT926000-L13100000-EI0000]

Notice of Filing of Plats of Survey; North Dakota

AGENCY: Bureau of Land Management, Interior.

ACTION: Notice of filing of plats of survey.

SUMMARY: The Bureau of Land Management (BLM) will file the plat of survey of the lands described below in the BLM Montana State Office, Billings, Montana, on May 15, 2014.

DATES: Protests of the survey must be filed before May 15, 2014 to be considered.

ADDRESSES: Protests of the survey should be sent to the Branch of Cadastral Survey, Bureau of Land Management, 5001 Southgate Drive, Billings, Montana 59101-4669.

FOR FURTHER INFORMATION CONTACT: Blaise Lodermeier, Cadastral Surveyor, Branch of Cadastral Survey, Bureau of Land Management, 5001 Southgate Drive, Billings, Montana 59101-4669, telephone (406) 896-5128 or (406) 896-5009, bloderme@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed at the request of the BLM Montana State Office, Division of Resources, and was necessary to determine federal leasable mineral lands.

The lands we surveyed are:

Fifth Principal Meridian, North Dakota

T. 152 N., R. 99 W.

The plat, in one sheet, representing the supplemental plat of secs. 5 and 6, showing the amended lottings, Township 152 North, Range 99 West, Fifth Principal Meridian, North Dakota, was accepted February 13, 2014.

T. 153 N., R. 99 W.

The plat, in two sheets, representing the supplemental plat of secs. 26, 31, 32, 33, 34, and 35, showing the amended lottings, Township 153 North, Range 99 West, Fifth Principal Meridian, North Dakota, was accepted February 13, 2014.

T. 153 N., R. 94 W.

The plat, in two sheets, representing the supplemental plat of secs. 2, 3, 4, 9, 10, and 11, showing the amended lottings, Township 153 North, Range 94 West, Fifth Principal Meridian, North Dakota, was accepted February 28, 2014.

T. 152 N., R. 93 W.

The plat, in two sheets, representing the supplemental plat of secs. 22, 23, 27, 28, 32, and 33, showing the amended lottings, Township 152 North, Range 93 West, Fifth Principal Meridian, North Dakota, was accepted March 19, 2014.

T. 154 N., R. 94 W.

The plat, in two sheets, representing the supplemental plat of secs. 27, 28, 29, 30, 31, 32, 33, 34, and 35, showing the amended lottings, Township 154 North, Range 94 West, Fifth Principal Meridian, North Dakota, was accepted March 31, 2014.

We will place a copy of the plats, in nine sheets, in the open files. They will be available to the public as a matter of information. If the BLM receives a protest against this survey, as shown on these plats, in nine sheets, prior to the date of the official filing, we will stay the filing pending our consideration of the protest. We will not officially file these plats, in nine sheets, until the day after we have accepted or dismissed all protests and they have become final, including decisions or appeals.

Authority: 43 U.S.C. Chap. 3.

Josh Alexander,
Acting Chief Cadastral Surveyor, Division of Resources.

[FR Doc. 2014-08459 Filed 4-14-14; 8:45 am]

BILLING CODE P